DEPARTMENT OF DEFENSE

GENERAL SERVICES ADMINISTRATION

NATIONAL AERONAUTICS AND SPACE ADMINISTRATION

[Notice-MVC-2014-01; Docket No. 2014-0054; Sequence 1]

Expanded Reporting of Nonconforming Items; Corrections

AGENCY: Department of Defense (DoD), General Services Administration (GSA), and National Aeronautics and Space Administration (NASA).

ACTION: Notice of meeting; Corrections.

SUMMARY: DoD, GSA and NASA are issuing corrections to amend the meeting time and registration time that was published in the Federal Register on May 15, 2014.

DATES: Effective: June 6, 2014.

FOR FURTHER INFORMATION CONTACT: Mr. Edward Loeb, GSA, at 202-501-0650 or email Edward.Loeb@gsa.gov. Please cite Notice-MVC-2014-01; Public Meeting—Expanded Reporting of Nonconforming Items; Corrections.

SUPPLEMENTARY INFORMATION:

Corrections

In the notice FR Doc. 2014-11225 published in the Federal Register at 79 FR 27870, May 15, 2014, make the following corrections:

1. On page 27870, in the third column, under DATES, remove “1:00 p.m. to 5:00 p.m.” and add “1:30 p.m. to 5:30 p.m.” in its place.

2. On page 27871, in the first column, under SUPPLEMENTARY INFORMATION, in the Pre-Registration paragraph, fourth sentence, remove “begin at 12:00 p.m., and the meeting will start at 1:00 p.m. and conclude by 5:00 p.m., eastern” and add “begin at 12:30 p.m., and the meeting will start at 1:30 p.m. and conclude by 5:30 p.m., eastern” in its place.

Dated: June 2, 2014.
William Clark,
Acting Director, Federal Acquisition Policy Division.

[FR Doc. 2014-13179 Filed 6-5-14; 8:45 am]

BILLING CODE 6820-EP-P